DEPARTMENT OF ENERGY

Federal Energy Regulatory Commission

[Project Nos. 1975-102 and 2061-086]

Idaho Power Company; Notice of Availability of Draft Environmental Assessment

In accordance with the National Environmental Policy Act of 1969 and the Federal Energy Regulatory Commission's (Commission or FERC) regulations, 18 CFR part 380, Commission staff has reviewed the applications for amendment of the licenses for the Bliss Project (FERC No. 1975) and Lower Salmon Falls Project (FERC No. 2061) and has prepared a Draft Environmental Assessment. The projects are located on the Snake River in Gooding, Twin Falls, and Elmore Counties, Idaho. Both projects occupy lands managed by the Bureau of Land Management. The Lower Salmon Falls Project also occupies lands within the Hagerman Fossil Beds National Monument managed by the National Park Service.

The Draft Environmental Assessment contains the Commission staff's analysis of the potential environmental effects of the proposed change from run-of-river to load-following operations of the projects and concludes that authorizing the amendments, with appropriate environmental protective measures would not constitute a major federal action that would significantly affect the quality of the human environment.

A copy of the Draft Environmental Assessment is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY contact (202) 502-8695.

Any comments should be filed within 30 days from the date of this notice. Comments may be filed electronically via the Internet. See 18 CFR 385.2001(a)(1)(iii) and the instructions on the Commission's Web site at http://www.ferc.gov/docs-filing/efiling.asp. For assistance, please contact FERC Online Support. Although the Commission strongly encourages electronic filing, documents may also be paper-filed. To paper-file, mail an original and seven copies to: Kimberly D. Bose, Secretary, Federal Energy Regulatory Commission, 888 First Street NE., Washington, DC 20426. All comments must include the docket numbers P-1975-102 and P-2061-086.

For further information, contact Rachel Price by telephone at 202-502-8907 or by email at Rachel.Price@ferc.gov.

Dated: June 26, 2012.
Kimberly D. Bose,
Secretary.

[FR Doc. 2012-16367 Filed 7-3-12; 8:45 am]

BILLING CODE 6717-01-P